DEPARTMENT OF AGRICULTURE

Animal and Plant Health Inspection Service

[Docket No. APHIS-2006-0035]

Gull Hazard Reduction Program at John F. Kennedy International Airport; Record of Decision

AGENCY: Animal and Plant Health Inspection Service, USDA.

ACTION: Notice.

SUMMARY: We are advising the public of our record of decision for the final supplemental environmental impact statement for the Gull Hazard Reduction Program at John F. Kennedy International Airport.

DATES: Effective Date: July 26, 2012.

ADDRESSES: You may read the final supplemental environmental impact statement and the record of decision in our reading room. The reading room is located in room 1141 of the USDA South Building, 14th Street and Independence Avenue SW., Washington, DC. Normal reading room hours are 8 a.m. to 4:30 p.m., Monday through Friday, except holidays. To be sure someone is there to help you, please call (202) 799-7039 before coming. The documents are also available on the Internet at http://www.aphis.usda.gov/regulations/ws/ws_environmental_new_york.shtml and are posted on the Regulations.gov Web site at http://www.regulations.gov/#!docketDetail;D=APHIS-2006-0035. To obtain copies of the documents, contact the person listed under FOR FURTHER INFORMATION CONTACT.

FOR FURTHER INFORMATION CONTACT: Mr. Martin Lowney, Wildlife Services, APHIS, 1930 Route 9, Castleton, NY 12033-9653; (518) 477-4837.

SUPPLEMENTARY INFORMATION:

Background

On April 3, 2006, the Animal and Plant Health Inspection Service (APHIS) published a notice in the Federal Register (71 FR 16547-16548, Docket No. APHIS-2006-0035) announcing APHIS' intent to prepare a supplemental environmental impact statement (EIS) to address wildlife hazards to aircraft resulting from changes in wildlife populations and land uses in and around the John F. Kennedy International Airport. This action is a supplement to the Gull Hazard Reduction Program at John F. Kennedy International Airport Final EIS, May 1994.

The supplemental EIS has been prepared in cooperation with the Department of Interior's Fish and Wildlife Service and National Park Service, the Federal Aviation Administration, the New York State Department of Environmental Conservation, the New York City Department of Parks and Recreation, the New York City Department of Environmental Protection, and the Port Authority of New York and New Jersey.

A notice of availability regarding the draft supplemental EIS was published by the Environmental Protection Agency (EPA) in the Federal Register on January 14, 2011 (76 FR 2680, Docket No. ER-FRL-8994-6), and a notice of availability regarding the final supplemental EIS was published by EPA in the Federal Register on May 11, 2012 (77 FR 27771, Docket No. ER-FRL-9002-9). The NEPA implementing regulations in 40 CFR 1506.10 require a minimum 30-day waiting period between the time a final EIS is published and the time an agency makes a decision on an action covered by the EIS. APHIS has reviewed the final supplemental EIS and comments received during the 30-day waiting period and has concluded that it has fully analyzed the issues covered by the draft supplemental EIS and those comments and suggestions submitted by commenters. Based on our final supplemental EIS, the response to public comments, and other pertinent scientific data, APHIS has prepared a record of decision.

The record of decision has been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 20th day of July 2012.
Kevin Shea,
Acting Administrator, Animal and Plant Health Inspection Service.

[FR Doc. 2012-18223 Filed 7-25-12; 8:45 am]

BILLING CODE 3410-34-P